DEPARTMENT OF AGRICULTURE

Animal and Plant Health Inspection Service

[Docket No. APHIS-2020-0036]

Notice of Availability of an Environmental Assessment and Finding of No Significant Impact for the Release of Ramularia crupinae for Biological Control of Common Crupina (Crupina vulgaris) in the Contiguous United States

AGENCY: Animal and Plant Health Inspection Service, USDA.

ACTION: Notice of availability.

SUMMARY: We are advising the public that we have prepared a final environmental assessment and finding of no significant impact relative to permitting the release of Ramularia crupinae for the biological control of common crupina (Crupina vulgaris) in the contiguous United States. Based on our finding of no significant impact, we have determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327; email: Colin.Stewart@usda.gov.

SUPPLEMENTARY INFORMATION: The Animal and Plant Health Inspection Service (APHIS) is issuing permits for the release of Ramularia crupinae, into the contiguous United States for the biological control of common crupina (Crupina vulgaris).

Common crupina, a winter annual, is spreading in pastures and rangelands resulting in a reduction in quality of forage as it displaces other species in the northwestern United States; it is a native of Eurasia, most likely originating in the Middle East. Common crupina may grow from 0.3 to 1.0 meter in height, having inconspicuous flowers ranging from lavender to purple, as well as rosettes that develop through the fall and winter.

Ramularia crupinae, a leaf-spotting fungus, was chosen as a potential biological control agent of Crupina vulgaris in the contiguous United States over other management options because it is host-specific. On October 30, 2020, we published in the Federal Register (85 FR 68838, Docket No. APHIS-2020-0036) a notice ¹ in which we announced the availability, for public review and comment, of an environmental assessment (EA) that examined the potential environmental impacts associated with the release of Ramularia crupinae for the biological control of common crupina (Crupina vulgaris) in the contiguous United States. Comments on the notice were required to be received on or before November 30, 2020. We received one comment by that date. The comment, which did not raise any substantive issues regarding the notice, is addressed in the final EA.

¹ To view the notice, supporting documents, and the comment we received, go to http://www.regulations.gov and enter APHIS-2020-0036 in the Search field.

In this document, we are advising the public of our finding of no significant impact (FONSI) regarding the release of Ramularia crupinae for the biological control of common crupina (Crupina vulgaris) in the contiguous United States. The finding, which is based on the EA, reflects our determination that release of Ramularia crupinae for the biological control of common crupina (Crupina vulgaris) in the contiguous United States will not have a significant impact on the quality of the human environment. Based on this finding, we have issued a permit for the release of Ramularia crupinae for the biological control of common crupina (Crupina vulgaris) in the contiguous United States.

The EA and FONSI may be viewed on the Regulations.gov website (see footnote 1). Copies of the EA and FONSI are also available for public inspection at 1620 of the USDA South Building, 14th Street and Independence Avenue SW, Washington, DC. Normal reading room hours are 8 a.m. to 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 28th day of June 2021.
Mark Davidson,
Administrator, Animal and Plant Health Inspection Service.

[FR Doc. 2021-15176 Filed 7-16-21; 8:45 am]

BILLING CODE 3410-34-P